DEPARTMENT OF COMMERCE

International Trade Administration

Export Trade Certificate of Review

ACTION: Notice of Issuance of an Export Trade Certificate of Review, Application No. 99-00007.

SUMMARY: The Department of Commerce has issued an Export Trade Certificate of Review to John L. Koenig. This notice summarizes the conduct for which certification has been granted.

FOR FURTHER INFORMATION CONTACT: Morton Schnabel, Director, Office of Export Trading Company Affairs, International Trade Administration, 202-482-5131. This is not a toll-free number.

SUPPLEMENTARY INFORMATION: Title III of the Export Trading Company Act of 1982 (15 U.S.C. 4001-21) authorizes the Secretary of Commerce to issue Export Trade Certificates of Review. The regulations implementing Title III are found at 15 CFR Part 325 (1999).

The Office of Export Trading Company Affairs (“OETCA”) is issuing this notice pursuant to 15 CFR 325.6(b), which requires the Department of Commerce to publish a summary of a Certificate in the Federal Register. Under Section 305(a) of the Act and 15 CFR 325.11(a), any person aggrieved by the Secretary's determination may, within 30 days of the date of this notice, bring an action in any appropriate district court of the United States to set aside the determination on the ground that the determination is erroneous.

Description of Certified Conduct

Export Trade

1. Products

All goods and services.

2. Technology Rights

All intellectual property rights associated with Products, including, but not limited to: Patents, trademarks, service marks, copyrights, trade secrets and know-how.

3. Export Trade Facilitation Services (as they Relate to the Export of Products and Technology Rights)

Export Trade Facilitation Services, including, but not limited to: consulting; international market research; marketing and trade promotion; trade show participation; insurance; legal assistance; transportation, trade documentation and freight forwarding; communication and processing of export orders; warehousing; foreign exchange; financing; taking title to goods; professional services in areas of government relations and assistance with state and federal programs and foreign trade and business protocol.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

John L. Koenig may engage in the following activities with respect to the Export Markets:

1. Provide and/or arrange for the provision of Export Trade Facilitation Services;

2. Engage in promotion and marketing activities as they relate to exporting Products to the Export Markets;

3. Enter into exclusive and non-exclusive export sales agreements with Suppliers regarding sales of Products in the Export Markets; such agreements may prohibit Suppliers from exporting independently of John L. Koenig;

4. Enter into exclusive and non-exclusive sales and/or territorial agreements with distributors in the Export Markets;

5. Establish the price of Products for sale in the Export Markets;

6. Allocate export orders among Suppliers;

7. Obtain information from individual Suppliers regarding their inventories and near-term production schedules for the purpose of determining the availability of Products for export and coordinating exports with distributors; and

8. Enter into exclusive or non-exclusive agreements with Suppliers, Export Intermediaries, or other persons for licensing Technology Rights in Export Markets.

Terms and Conditions of Certificate

1. In engaging in Export Trade Activities and Methods of Operation, John L. Koenig will not intentionally disclose, directly or indirectly, to any Supplier any information about any other Supplier's costs, production, capacity, inventories, domestic prices, domestic sales, or U.S. business plans, strategies, or methods that is not already generally available to the trade or public.

2. John L. Koenig will comply with requests made by the Secretary of Commerce on behalf of the Secretary of Commerce or the Attorney General for information or documents relevant to conduct under the Certificate. The Secretary of Commerce will request such information or documents when either the Attorney General or the Secretary of Commerce believes that the information or documents are required to determine that John L. Koenig's Export Trade, Export Trade Activities, and Methods of Operation continue to comply with the standards of Section 303(a) of the Act.

Definitions

1. “Export Intermediary” means a person who acts as a distributor, sales representative, sales or marketing agent, or broker, or who performs similar functions, including providing or arranging for the provision of Export Trade Facilitation Services.

2. “Supplier” means a person who produces, provides, or sells a Product.

Protection Provided by Certificate

This Certificate protects John L. Koenig and any employee acting on his behalf from private treble damage actions and government criminal and civil suits under U.S. federal and state antitrust laws for the export conduct specified in the Certificate and carried out during its effective period in compliance with its terms and conditions.

A copy of this certificate will be kept in the International Trade Administration's Freedom of Information Records Inspection Facility Room 4102, U.S. Department of Commerce, l4th Street and Constitution Avenue, NW, Washington, DC 20230.

Dated: February 4, 2000.
Morton Schnabel,
Director, Office of Export Trading Company Affairs.

[FR Doc. 00-3006 Filed 2-9-00; 8:45 am]

BILLING CODE 3510-DR-U